DEPARTMENT OF EDUCATION

[CFDA: Number: 84.358A.]

Application Deadline for Fiscal Year (FY) 2014; Small, Rural School Achievement Program

AGENCY: Office of Elementary and Secondary Education, Department of Education.

ACTION: Notice.

SUMMARY: Under the Small, Rural School Achievement (SRSA) program, the U.S. Department of Education (Department) awards grants on a formula basis to eligible local educational agencies (LEAs) to address the unique needs of rural school districts. In this notice, we establish the deadline for submission of fiscal year (FY) 2014 SRSA grant applications.

An eligible LEA that is required to submit an application must do so electronically by the deadline in this notice.

DATES: Application Deadline: May 30, 2014, 4:30:00 p.m. Washington, DC time.

FOR FURTHER INFORMATION CONTACT: Eric Schulz, U.S. Department of Education, 400 Maryland Avenue SW., Room 3W107, Washington, DC 20202. Telephone: (202) 401-0039 or by email: reap@ed.gov.

If you use a telecommunications device for the deaf (TDD) or a text telephone (TTY), call the Federal Relay Service (FRS), toll free, at 1-800-877-8339.

SUPPLEMENTARY INFORMATION:

Which LEAs are eligible for an award under the SRSA program?

An LEA (including a public charter school that is considered an LEA under State law) is eligible for an award under the SRSA program if—

(a) The total number of students in average daily attendance at all of the schools served by the LEA is fewer than 600, or each county in which a school served by the LEA is located has a total population density of fewer than 10 persons per square mile; and

(b)(1) All of the schools served by the LEA are designated with a school locale code of 7 or 8 by the Department's National Center for Education Statistics (NCES); or

(2) The Secretary has determined, based on a demonstration by the LEA and concurrence of the State educational agency, that the LEA is located in an area defined as rural by a governmental agency of the State.

Note: The school locale codes are the locale codes determined on the basis of the NCES school code methodology in place on the date of enactment of section 6211(b) of the Elementary and Secondary Education Act of 1965, as amended.

Which eligible LEAs must submit an application to receive an FY 2014 SRSA Grant Award?

An eligible LEA must submit an application to receive an FY 2014 SRSA grant award if that LEA has never submitted an application for SRSA funds in any prior year.

All eligible LEAs that need to submit an application to receive an SRSA grant award in a given year are highlighted in yellow on the SRSA eligibility spreadsheets, which are posted annually on the SRSA program Web site at www2.ed.gov/programs/reapsrsa/eligibility.html.

Under the regulations in 34 CFR 75.104(a), the Secretary makes a grant only to an eligible party that submits an application. Given the limited purpose served by the application under the SRSA program, the Secretary considers the application requirement to be met if an LEA submitted an SRSA application for any prior year. In this circumstance, unless an LEA advises the Secretary by the application deadline that it is withdrawing its application, the Secretary deems the application that an LEA previously submitted to remain in effect for FY 2014 funding, and the LEA does not have to submit an additional application.

We intend to provide, by May 15, 2014, a list of LEAs eligible for FY 2014 funds on the Department's Web site at http://www2.ed.gov/programs/reapsrsa/eligibility.html. This Web site will indicate which eligible LEAs must submit an electronic application to the Department to receive an FY 2014 SRSA grant award, and which eligible LEAs are considered already to have met the application requirement.

Eligible LEAs that need to submit an application in order to receive FY 2014 SRSA funds must do so electronically by the deadline established in this notice.

Electronic Submission of Applications

An eligible LEA that is required to submit an application to receive FY 2014 SRSA funds must submit an electronic application by May 30, 2014, 4:30:00 p.m., Washington, DC time. If it submits its application after this deadline, the LEA will receive a grant award only to the extent that funds are available after the Department awards grants to other eligible LEAs under the program.

Submission of an electronic application involves the use of the Department's G5 System. Prospective applicants can access the electronic application for the SRSA Program at: www.g5.gov. When applicants access this site, they will receive specific instructions regarding the information to include in the SRSA application.

The hours of operation of the G5 Web site are 6:00 a.m. Monday until 9:00 p.m. Wednesday; and 6:00 a.m. Thursday until 8:00 p.m. Sunday (Washington, DC time). Please note that the system is unavailable after 8:00 p.m. on Sundays, and after 9:00 p.m. on Wednesdays for maintenance (Washington, DC time). Any modifications to these hours are posted on the G5 Web site.

Accessible Format: Individuals with disabilities can obtain this document and a copy of the application package in an accessible format (e.g., braille, large print, audiotape, or computer disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 7345-7345b.

Dated: April 28, 2014.
Deborah S. Delisle,
Assistant Secretary for Elementary and Secondary Education.

[FR Doc. 2014-10025 Filed 4-30-14; 8:45 am]

BILLING CODE 4000-01-P